UNITED STATES INSTITUTE OF PEACE

Notice of Meeting

Agency: United States Institute of Peace.

Date/Time: Friday, April 12, 2019 (10:00 a.m.-12:30 p.m.)

Location: 2301 Constitution Avenue NW, Washington, DC 20037.

Status: Open Session—Portions may be closed pursuant to Subsection (c) of Section 552(b) of Title 5, United States Code, as provided in subsection 1706(h)(3) of the United States Institute of Peace Act, Public Law 98-525.

Agenda: April 12, 2019 Board Meeting: Chairman's Report; Vice Chairman's Report; President's Report; Approval of Minutes of the October 19, 2018 Board of Directors Meeting; Reports from USIP Board Committees; Updates from the field; and Update on the Justice and Security Dialogue Program.

Contact: Nancy Lindborg, President: nlindborg@usip.org.

Dated: March 29, 2019.
Nancy Lindborg,
President.

[FR Doc. 2019-06579 Filed 4-3-19; 8:45 am]

BILLING CODE 6820-AR-P